DEPARTMENT OF HOMELAND SECURITY

Federal Emergency Management Agency

Agency Information Collection Activities: Submission for OMB Review; Comment Request

AGENCY: Federal Emergency Management Agency, Emergency Preparedness and Response Directorate, Department of Homeland Security.

ACTION: Notice and request for comments.

SUMMARY: The Federal Emergency Management Agency (FEMA) is submitting a request for review and approval of a collection of information under the emergency processing procedures in Office of Management and Budget (OMB) regulation 5 CFR 1320.13. FEMA is requesting that this information collection be approved by May 12, 2003. The approval will authorize FEMA to use the collection through November 30, 2003. FEMA plans to follow this emergency request with a request for a 3-year approval. The request will be processed under OMB's normal clearance procedures in accordance with the provisions of OMB regulation 5 CFR 1320.10. To help us with the timely processing of the emergency and normal clearance submissions to OMB, FEMA invites the general public to comment on the proposed collection of information.

SUPPLEMENTARY INFORMATION: The proposed collection of information is for the administration of the Pre-Disaster Mitigation program as authorized under Section 203 of the Robert T. Stafford Disaster Relief and Emergency Assistance Act (Stafford Act), 42 U.S.C. 5133, as amended by section 102 of the Disaster Mitigation Act of 2000 (DMA), Pub. L. 106-390, 114 Stat. 1552. In accordance with the Act, FY 2003 Consolidated Appropriation Resolution, Pub. L. 108-7 authorized $150 million for the Pre-Disaster Mitigation Program.

Collection of Information

Title: Pre-Disaster Mitigation Grant Program (PDM)/eGrants.

Type of Information Collection: Existing collection in use without an OMB control number.

Forms: The following forms are used for PDM grant application and reporting:

SF 424, Application for Federal Assistance;

SF LLL, Disclosure of Lobbying Activities;

FEMA Form 20-10, Financial Status Report;

FEMA Form 20-15, Budget Information—Construction Program;

FEMA Forms 20-16, Summary Sheet for Assurances and Certifications;

FEMA Form 20-16A, Assurances—Nonconstruction Programs;

FEMA Form 20-16B, Assurances—Construction Programs;

FEMA Form 20-16C, Certifications Regarding Lobbying; Debarment, Suspension and other Responsibility Matters; and Drug-Free Workplace Requirements;

FEMA Form 20-17, Outlay Report and Request for Reimbursement;

FEMA Form 20-18, Report of Government Property;

FEM Form 20-19, Report of Unobligated Balance of Federal Funds;

FEMA Form 20-20, Budget Information—Nonconstruction Programs; and,

FEMA Form 76-10A, Obligating Document for Award.

Abstract: This collection is necessary to provide Federal grant assistance to States, local governments and Federally recognized Indian Tribal governments to develop mitigation plans in accordance with Section 322 of the DMA of 2000, to implement pre-disaster mitigation projects that primarily reduces the risks of natural hazards on life and property but may include hazards caused by non-natural forces, and to provide information and technical assistance on cost-effective mitigation activities. In FY 2003, FEMA will make the Pre-Disaster Mitigation Grant application available on-line to States and local governments through a web-based eGrants application process.

Affected Public: State, local and Tribal governments.

Number of Respondents: 1,176. The number of respondents includes 56 States and Territories plus 20 local governments (to include Indian Tribal governments) per State, or 1,120 local governments, Local governments submit their applications to the States to review, coordinate and forward PDM grant applications to FEMA for approval.

Estimated Total Annual Burden Hours: 50,887.

Estimated Cost: The total annual estimated costs to States, Territories, Indian Tribal governments and local governments for the information collection associated with the PDM program is $1,215,182. This cost is determined by multiplying the respondents estimate hourly rate times the estimated total annual burden hours ($23.88 × 50,887 = $1,215,182.)

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Submit comments to OMB within 30 days of the date of this notice. To ensure that FEMA is fully aware of any comments or concerns that you share with OMB, please provide us with a copy of your comments. FEMA will continue to accept comments for 60 days from the date of this notice.

OMB Addressee: Interested persons should submit written comments to the Office of Management and Budget, Office of Information and Regulatory Affairs (Attention: Desk Officer for the Federal Emergency Management Agency, Emergency Preparedness and Response Directorate, Department of Homeland Security) 725 17th Street, NW., Washington, DC 20503.

FEMA Addressee: Interested persons should submit written comments to Muriel B. Anderson, Chief, Records Management Branch, Information Resources Management Division, Information Technology Services Directorate, Federal Emergency Management Agency, Emergency Preparedness and Response Directorate, Department of Homeland Security, 500 C Street, SW., Room 316, Washington, DC 20472.

FOR FURTHER INFORMATION CONTACT: Contact Ms. Anderson for copies of the proposed collection of information at telephone number (202) 646-2625, facsimile number (202) 646-3347, or e-mail address: muriel.anderson@fema.gov.

Dated: April 30, 2003.
Edward W. Kernan,
Director, Information Resources Management Division, Information Technology Services Directorate.

[FR Doc. 03-11106 Filed 5-5-03; 8:45 am]

BILLING CODE 6718-01-P